ENVIRONMENTAL PROTECTION AGENCY

[ER-FRL-6615-9]

Environmental Impact Statements; Notice of Availability

Responsible Agency: Office of Federal Activities, General Information (202) 564-7167 www/epa/gov/oeca/ofa

Weekly receipt of Environmental Impact Statements.

Filed February 19, 2001, through February 23, 2001.

Pursuant to 40 CFR 1506.9.

EIS No. 010054, DRAFT EIS, BLM, NV, Phoenix Project, Expansion of Current Mining Operations and Processing Activities, Battle Mountain, Plan of Operations, Lander County, NV, Due: May 04, 2001, Contact: Pam Jarnecke (775) 635-4144.

EIS No. 010055, DRAFT EIS, FAA, KY, Cincinnati/Northern Kentucky International Airport, Construction and Operation of a New 8,000-foot Runway 17/35 (Future 18R/36L); 2,000-foot Extension of Runway 9/27, Funding and Airport Layout Plan, (ALP) Boone County, KY, Due: May 01, 2001, Contact: Peggy S. Kelly (901) 544-3495.

EIS No. 010056, DRAFT SUPPLEMENT, COE, KY, Lower Cumberland and Tennessee Rivers Navigation Improvements, Kentucky Lock Addition, Implementation, Nashville District, Marshall and Livingston Counties, KY, Due: April 16, 2001, Contact: Tim Higgs (615) 736-7863.

EIS No. 010057, FINAL EIS, TVA, TN, Future Water Supply Needs in the Upper Duck River Basin, NPDES Permit and COE Section 404 Permit, Bedford, Marshall, Maury and Williamson Counties, TN, Due: April 02, 2001, Contact: Linda B. Oxendine (865) 632-3440.

EIS No. 010058, FINAL EIS, BLM, NV, Red Rock Canyon National Conservation Area (RRCNCA), General Management Plan (GMP), Amendment to the Las Vegas Resource Management Plan, Las Vegas, NV, Due: April 02, 2001, Contact: Gene Arnesen (702) 647-5068.

EIS No. 010059, DRAFT SUPPLEMENT, FTA, CA, Los Angeles Eastside Corridor Transit Improvements, Updated Information on the Light Rail Transit (LRT) Build Alternative and Three Transition Options, Extending from Union Station to Beverly and Atlantic Boulevards in East Los Angeles, via Alameda St., 1st. Street, Indiana St., 3rd Street, and Beverly Boulevard, Due: April 17, 2001, Contact: Erv Poka (213) 202-3952.

Dated: February 27, 2001.
Joseph C. Montgomery,
Director, NEPA Compliance Division, Office of Federal Activities.

[FR Doc. 01-5134 Filed 3-1-01; 8:45 am]

BILLING CODE 6560-50-M